DEPARTMENT OF HEALTH AND HUMAN SERVICES

National Institutes of Health

Proposed Collection; Comment Request; Request for Generic Clearance To Conduct Voluntary Customer/Partner Surveys

SUMMARY: In compliance with the requirement of section 3506(c)(2)(A) of the Paperwork Reduction Act of 1995 to provide opportunity for public comment on proposed data collection projects, the National Library of Medicine (NLM), the National Institutes of Health (NIH) will publish periodic summaries of proposed projects to be submitted to the Office of Management and Budget (OMB) for review and approval.

Proposed Collection

Title: Voluntary Customer Satisfaction Surveys.

Type of Information Collection Request: Extension. OMB Control No. 0925-0476, with an expiration date of May 31, 2006.

Need and Use of Information Collection: Executive Order 12962 directed agencies that provide significant services directly to the public to survey customers to determine the kind and quality of services they want and their level of satisfaction with existing services. Additionally, since 1994, the NLM has been a “Federal Reinvention Laboratory” with a goal of improving its methods of delivering information to the public. An essential strategy in accomplishing reinvention goals is the ability to periodically receive input and feedback from customers about the design and quality of the services they receive.

The NLM provides significant services directly to the public including health providers, researchers, universities, other federal agencies, state and local governments, and to others through a range of mechanisms, including publications, technical assistance, and Web sites. These services are primarily focused on health and medical information dissemination activities. The purpose of this submission is to obtain OMB's generic approval to continue to conduct satisfaction surveys of NLM's customers. The NLM will use the information provided by individuals and institutions to identify strengths and weaknesses in current services and to make improvements where feasible. The ability to periodically surveys NLM's customers is essential to continually update and upgrade methods of providing high quality service.

Frequency of Response: Annually or biennially.

Affected Public: Individuals or households; businesses or other for profit; State or local governments; Federal agencies; non-profit institutions; small businesses or organizations.

Type of Respondents: Organizations, medical researchers, physicians and other health care providers, librarians, students, and the general public. Annual reporting burden is as follows:

Title of survey | Type of survey | Number of respondents | Estimated response time | Burden hours
ClinicalTrials.gov and Protocol Registration System | Web-based | 2000 | .167 | 334
Consumer Information Health Seeking Process | Web-based | 500 | .5 | 250
Consumer Knowledge of Health-Related Concepts | Interviews/Questionnaires (in person) | 200 | .5 | 100
Comprehension of Consumer Health Materials Online | Interviews/Scenarios (in person) | 40 | 1 | 40
Patient Information Seeking and Symptom Management Decision Making | Interview/Observation (in person) | 150 (15 × 10 sessions) | .5 | 75
| 18 (3 × 6 sessions) |  | .5 | 9
|  |  |  | 84
Evaluation of Genetics Home Reference Survey | Web-based | 950 (200 + 500 + 250) | .5 .4175 .4175 | 100 209 104
|  |  |  | 413
PubMed | Web-based | 2,000 | .0835 | 167
Entrez | Web-based | 1,500 | .0835 | 128
NCBI Web Site | Web-based | 1,500 | .0835 | 128
NLM Service Desk Survey | Interactive Voice Response telephone | 400 | .0835 | 33
NLM Electronic Mail Customer Survey | Electronic Mail | 1,000 | .0835 | 84
Exhibition Surveys (3) | Exit Interview | 1500 (500 × 3 sessions) | .167 | 251
AIDSinfo and HIV/AIDS Web sites | Web-based | 2,000 | .0835 | 167
TOXNET and related Web sites | Web-based | 2,000 | .0835 | 167
SIS Web site | Web-based | 2,000 | .0835 | 167
NLM outreach services | Web-based | 2,000 | .0835 | 167
Total |  | 19,758 |  | 2,680

There are no capital costs to report. There are no operating or maintenance costs to report.

Request for Comments

Written comments and/or suggestions from the public and affected agencies are invited on one or more of the following points: (1) Whether the proposed collection of information is necessary for the proper performance of the function of the agency, including whether the information will have practical utility; (2) The accuracy of the agency's estimate of the burden of the proposed collection of information; (3) Ways to enhance the quality, utility, and clarity of the information to be collected; and (4) Ways to minimize the burden of the collection of information on those who are to respond, including the use of appropriate automated, electronic, mechanical, or other technological collection techniques or other forms of information technology.

FOR FURTHER INFORMATION CONTACT: To request additional information on the proposed collection of information contact Carol Vogel, National Library of Medicine, Building 38A, Room B2N12, 8600 Rockville Pike, Bethesda, MD 20894, or call 301-402-9680 (not a toll-free number). You also may e-mail your request to vogelc@mail.nih.gov.

Comments Due Date

Comments regarding this information collection are best assured of having their full effect if received within 60 days of the date of this publication.

Dated: January 20, 2006.
Todd Danielson,
Executive Officer, National Library of Medicine, National Institutes of Health.

[FR Doc. 06-772 Filed 1-26-06; 8:45 am]

BILLING CODE 4140-01-M